DEPARTMENT OF COMMERCE

National Oceanic and Atmospheric Administration

Public Meeting of the Ocean Exploration Advisory Board

AGENCY: Office of Oceanic and Atmospheric Research (OAR), National Oceanic and Atmospheric Administration (NOAA), Department of Commerce (DOC).

ACTION: Notice of public meeting.

SUMMARY: This notice sets forth the schedule and proposed agenda for a meeting of the Ocean Exploration Advisory Board (OEAB). OEAB members will discuss and provide advice on the Federal ocean exploration program, with a particular emphasis on the topics identified in the section on Matters to Be Considered.

DATES: The announced meeting is scheduled for Friday, January 10, 2025 from 12:30 p.m.-1 p.m. (ET).

ADDRESSES: This meeting will be held virtually. Information about how the public can observe virtually will be posted to the OEAB website at https://oeab.noaa.gov/.

FOR FURTHER INFORMATION CONTACT: Mr. David Turner, Designated Federal Officer, Ocean Exploration Advisory Board, National Oceanic and Atmospheric Administration, David.Turner@NOAA.gov or (859) 327-9661.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs, and other matters as the NOAA Administrator requests.

OEAB members represent government agencies, the private sector, academic institutions, and not-for-profit institutions involved in all facets of ocean exploration—from advanced technology to public engagement.

In addition to advising NOAA leadership, NOAA expects the OEAB to help to define and develop a national program of ocean exploration—a network of stakeholders and partnerships advancing national priorities for ocean exploration.

Matters To Be Considered: NOAA laboratory and program science reviews are conducted every five years to evaluate the quality, relevance, and performance of research conducted in NOAA OAR laboratories and programs. On October 9-10, 2024, the Ocean Exploration Advisory Board conducted a five-year program review of the NOAA Ocean Exploration program. Three focus areas were identified for the review: Ensuring a National Program of Ocean Exploration; Technological Innovation and Application; and, Public Engagement and Education. The Board will formally convene on January 10, 2025 to validate and vote on their findings, and upon approval, their Report of Findings and Recommendations will be transmitted to the NOAA Administrator and Under Secretary of Commerce for Oceans and Atmosphere.

The agenda and other meeting materials will be made available on the OEAB website at https://oeab.noaa.gov/.

Status: The meeting will be held virtually and be open to the public via remote access. Information on how to access the meeting, the agenda, and the public comment period schedule will be viewable on the OEAB website.

The OEAB expects that public statements at its meetings will not be repetitive of previously submitted verbal or written statements. In general, each individual or group making a verbal presentation will be limited to three minutes. The Designated Federal Officer must receive written comments by Jan. 3, 2025, to provide sufficient time for OEAB review. Written comments received after Jan. 3, 2025, will be distributed to the OEAB but may not be reviewed prior to the meeting date. Comments should be submitted to Designated Federal Officer David.Turner@NOAA.gov.

Special Accommodations: Requests for sign language interpretation or other auxiliary aids should be directed to the Designated Federal Officer by Jan. 3, 2025.

David Holst,
Chief Financial and Administrative Officer, Office of Oceanic and Atmospheric Research, National Oceanic and Atmospheric Administration.

[FR Doc. 2024-30398 Filed 12-19-24; 8:45 am]

BILLING CODE 3510-KA-P